COMMISSION ON CIVIL RIGHTS

Agenda and Notice of Public Meeting of the Connecticut Advisory Committee

Notice is hereby given, pursuant to the provisions of the rules and regulations of the U.S. Commission on Civil Rights (Commission) and the Federal Advisory Committee Act (FACA), that an orientation and a planning meeting of the Connecticut State Advisory Committee will convene at 10:30 a.m. on Wednesday, July 20, 2011, at the University of Connecticut, School of Law, Faculty Lounge, 55 Elizabeth Street, Hartford, CT 06105. The purpose of the orientation meeting is to review the rules of operation for this Federal advisory committee with the newly appointed committee members; the purpose of the planning meeting is to plan the committee's future activities.

Members of the public are entitled to submit written comments; the comments must be received in the regional office by Monday, August 22, 2011. The address is Eastern Regional Office, 624 9th Street, NW., Suite 740, Washington, DC 20425. Persons wishing to e-mail their comments, or who desire additional information should contact the Eastern Regional Office at 202-376-7533 or by e-mail to: ero@usccr.gov.

Hearing-impaired persons who will attend these meetings and require the services of a sign language interpreter should contact the Eastern Regional Office at least ten (10) working days before the scheduled date of the meetings.

Records generated from these meetings may be inspected and reproduced at the Eastern Regional Office, as they become available, both before and after the meetings. Persons interested in the work of this advisory committee are advised to go to the Commission's Web site, http://www.usccr.gov, or to contact the Eastern Regional Office at the above e-mail or street address.

The meetings will be conducted pursuant to the rules and regulations of the Commission and FACA.

Dated in Washington, DC on June 23, 2011.
Peter Minarik,
Acting Chief, Regional Programs Coordination Unit.

[FR Doc. 2011-16114 Filed 6-27-11; 8:45 am]

BILLING CODE 6335-01-P